DEPARTMENT OF HEALTH AND HUMAN SERVICES

Centers for Disease Control and Prevention

Notice of Award of a Sole Source Cooperative Agreement To Fund World Health Organization (WHO)

AGENCY: Centers for Disease Control and Prevention (CDC), Department of Health and Human Services (HHS).

ACTION: Notice.

SUMMARY: The Centers for Disease Control and Prevention (CDC), located within the Department of Health and Human Services (HHS), announces the award of approximately $20,000,000, for Year 1 funding to WHO. This award will support the development of global guidelines and provide technical assistance through WHO to aid PEPFAR-supported countries to meet the 95-95-95 targets and achieve program sustainability by 2030. Funding amounts for years 2-5 will be set at continuation.

DATES: The period for this this award will be September 30, 2024, through September 29, 2029

FOR FURTHER INFORMATION CONTACT: Francheskie Velez, Center for Global Health, Centers for Disease Control and Prevention, 1600 Clifton Road NE MS-E39 Atlanta, GA 30329, telephone: 404.245.5639, e-Mail: gpg2@cdc.gov.

SUPPLEMENTARY INFORMATION: The sole source award will support efforts to improve surveillance, prevention, care, and treatment of HIV, Tuberculosis (TB), sexually transmitted infection (STIs), viral hepatitis, and associated chronic co-infections and noncommunicable diseases (NCDs); promote health equity; increase sustainability of programs; strengthen public health systems and health security; and follow science.

WHO is in a unique position to conduct this work, as it is the sole international global health organization responsible for issuing normative standard and guidelines for implementation of health programs including HIV/AIDS within the UN system. No other organization has the authority to issue international standards for health in the UN system as denoted by the WHO constitution signed in 1948.

Summary of the Award

Recipient: World Health Organization (WHO).

Purpose of the Award: The purpose of this award is to support the development of global guidelines and provide technical assistance through WHO to aid PEPFAR-supported countries to meet the 95-95-95 targets and achieve program sustainability by 2030. In alignment with the 2022 PEPFAR Five-Year Strategy.

Amount of Award: For WHO, the approximate year 1 funding amount will be $20,000,000 in Federal Fiscal Year (FYY) 2024 funds, subject to the availability of funds. Funding amounts for years 2-5 will be set at continuation.

Authority: This program is authorized under Public Law 108-25 (the United States Leadership Against HIV AIDS, Tuberculosis and Malaria Act of 2003) (22 U.S.C. 7601, et seq.) and Public Law 110-293 (the Tom Lantos and Henry J. Hyde United States Global Leadership Against HIV/AIDS, Tuberculosis, and Malaria Reauthorization Act of 2008), and Public Law 113-56 (PEPFAR Stewardship and Oversight Act of 2013). Additionally, this program is authorized under section 307 of the Public Health Service Act (42 U.S.C. 242l), as amended and section 301(a) of the Public Health Service Act (42 U.S.C. 241(a)), as amended.

Non-PEPFAR Funding

Additionally, this program is authorized under the Public Health Service Act 42 CFR part 51b—Project Grants for Preventive Health Services section 318 (42 U.S.C. 247c) section 318 (42 U.S.C. 247c) Sexually transmitted diseases; prevention and control projects; sections 301(a), 317N, and 318 of the Public Health Service Act (42 U.S.C. 241(a), 247b-15, and 247c).

Period of Performance: The period for this award will be September 30, 2024, through September 29, 2029.

Dated: March 13, 2024.
Jamie Legier,
Acting Director, Office of Grants Services, Centers for Disease Control and Prevention.

[FR Doc. 2024-05774 Filed 3-18-24; 8:45 am]

BILLING CODE 4163-18-P